DEPARTMENT OF AGRICULTURE

Forest Service

Notice of Tri-County Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393, as amended by Section 5401 of Public Law 110-28, the U.S. Troop Readiness, Veterans' Care, Katrina Recovery, and Iraq Accountability Appropriations Act of 2007) the Beaverhead-Deerlodge National Forest's Tri-County Resource Advisory Committee will meet on Tuesday, September 18, 2007, from 4 p.m. to 8 p.m., in Philipsburg, Montana, for a business meeting. The meeting is open to the public.

DATES: Tuesday, September 18, 2007.

ADDRESSES: The meeting will be held at the Forest Service office at 88 Business Loop, Philipsburg, Montana.

FOR FURTHER INFORMATION CONTACT: Bruce Ramsey, Designated Forest Official (DFO), Forest Supervisor, Beaverhead-Deerlodge National Forest, at (406) 683-3973.

SUPPLEMENTARY INFORMATION: Agenda topics for this meeting include a review of projects proposed for funding as authorized under Title II of Public Law 106-393, and public comment. If the meeting location is changed, notice will be posted in local newspapers, including The Montana Standard.

Dated: August 24, 2007.
Bruce Ramsey,
Designated Federal Official, Forest Supervisor.

[FR Doc. 07-4271 Filed 8-30-07; 8:45 am]

BILLING CODE 3410-11-M